NUCLEAR REGULATORY COMMISSION

Docket No. 72-1051; NRC-2018-0052]

Holtec International HI-STORE Consolidated Interim Storage Facility Project

AGENCY: Nuclear Regulatory Commission.

ACTION: Environmental impact statement; public scoping comment meetings; extension of comment period.

SUMMARY: On March 30, 2018, the U.S. Nuclear Regulatory Commission (NRC) published in the Federal Register a notice of its intent to prepare an environmental impact statement (EIS) and requested public comments on the scope of its environmental review of Holtec International's (Holtec) application for the HI-STORE Combined Interim Storage Facility (CISF). The NRC is announcing two additional local public comment scoping meetings, an extension of the comment period, and an additional method to submit scoping comments by email.

DATES: The due date of comments requested in the document published on March 30, 2018 (83 FR 13802) is extended. Comments should be filed no later than July 30, 2018. Comments received after this date will be considered, if it is practical to do so, but the Commission is able to ensure consideration only for comments received on or before this date.

ADDRESSES: You may submit comments by any of the following methods:

• Federal Rulemaking Website: Go to http://www.regulations.gov and search for Docket ID NRC-2018-0052. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

• Email comments to: Holtec-CISFEIS@nrc.gov.

For additional direction on obtaining information and submitting comments, see “Obtaining Information and Submitting Comments” in the SUPPLEMENTARY INFORMATION section of this document.

FOR FURTHER INFORMATION CONTACT: Jill Caverly, Office of Nuclear Material Safety and Safeguards, U.S. Nuclear Regulatory Commission, Washington DC 20555-0001; telephone: 301-415-7674; email: Jill.Caverly@nrc.gov.

SUPPLEMENTARY INFORMATION:

I. Obtaining Information and Submitting Comments

A. Obtaining Information

Please refer to Docket ID NRC-2018-0052 when contacting the NRC about the availability of information for this action. You may obtain publicly-available information related to this action by the following methods:

• Federal Rulemaking Website: Go to http://www.regulations.gov and search for Docket ID NRC-2018-0052.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC'S PDR: You may examine and purchase copies of public documents at the NRC's PDR, Room O1-F21, One White Flint North, 11555 Rockville Pike, Rockville, Maryland 20852.

• Project web page: Information related to the Holtec HI-STORE CISF project can be accessed on the NRC's Holtec HI-STORE CISF web page at https://www.nrc.gov/waste/spent-fuel-storage/cis/holtec-international.html.

• Public Libraries: A copy of the application's Environmental Report can be accessed at the following public libraries: Carlsbad Public Library, 101 S. Halegueno Street, Carlsbad, NM 88220; Hobbs Public Library, 509 N. Shipp St., Hobbs, NM 88240; or Roswell Public Library, 301 N. Pennsylvania, Roswell, NM 88201.

B. Submitting Comments

Please include Docket ID NRC-2018-0052 in your comment submission. Written comments may be submitted during the scoping period as described in the ADDRESSES section of this document.

The NRC cautions you not to include identifying or contact information that you do not want to be publicly disclosed in your comment submission. The NRC posts all comment submissions at http://www.regulations.gov and enters all comment submissions into ADAMS. The NRC does not routinely edit comment submissions to remove identifying or contact information.

If you are requesting or aggregating comments from other persons for submission to the NRC, then you should inform those persons not to include identifying or contact information that they do not want to be publicly disclosed in their comment submission, because the NRC does not routinely edit comment submissions before making the comment submissions available to the public or entering the comment submissions into ADAMS.

II. Meeting Information

On March 30, 2018 (83 FR 13802), the NRC published in the Federal Register a notice of its intent to prepare an EIS on Holtec's proposed CISF for spent nuclear fuel and requested public comments on the scope of the EIS. The NRC has already held three local public meetings in Roswell, New Mexico; Hobbs, New Mexico; and Carlsbad, New Mexico, as well as one webinar and a public meeting at NRC headquarters in Rockville, Maryland. The NRC is announcing two additional local public scoping meetings in Gallup, New Mexico, and Albuquerque, New Mexico. The dates and times for the open houses and public meetings are as follows:

Meeting | Date | Time | Location
Open House and Public Scoping Meeting | May 21, 2018 | Open House 5:00 p.m.-6:00 p.m.; Public Meeting 6:00 p.m.-9:00 p.m. (MDT) | Gallup, New Mexico. Address: Gallup Downtown Conference Center, 204 W Coal Ave., Gallup, NM 87301.
Open House and Public Scoping Meeting | May 22, 2018 | Open House 5:00 p.m.-6:00 p.m.; Public Meeting 6:00 p.m.-9:00 p.m. (MT) | Albuquerque, New Mexico. Address: Crown Plaza, 1901 University Blvd., Albuquerque, NM 87102.

Persons interested in attending these meetings should check the NRC's Public Meeting Schedule web page at https://www.nrc.gov/pmns/mtg for additional information and agendas for the meetings.

III. Extending Public Comment Scoping Period

The NRC is extending the public comment scoping period for an additional 60 days, to July 30, 2018.

IV. Submitting Comments

Members of the public have requested the ability to submit their scoping comments to an NRC email address, in addition to the methods previously offered through the mail and through the Federal Rulemaking website. Accordingly, the NRC will now also accept comments submitted by email to Holtec-CISFEIS@nrc.gov.

Dated at Rockville, Maryland, this 11th day of May, 2018.
For the Nuclear Regulatory Commission.
Craig G. Erlanger,
Director, Division of Fuel Cycle Safety, Safeguards, and Environmental Review, Office of Nuclear Material Safety and Safeguards.

[FR Doc. 2018-10418 Filed 5-15-18; 8:45 am]

BILLING CODE 7590-01-P